DEPARTMENT OF THE INTERIOR

Fish and Wildlife Service

50 CFR Part 32

Refuge-Specific Hunting and Sport Fishing Regulations

CFR Correction

§ 32.37 [Corrected]

In Title 50 of the Code of Federal Regulations, Parts 18 to 199, revised as of October 1, 2011, on page 345, in § 32.37, under Black Bayou Lake National Wildlife Refuge, the second paragraph B.1. and the second paragraph C.1. are removed.

[FR Doc. 2012-23170 Filed 9-18-12; 8:45 a.m.]

BILLING CODE 1505-01-P